ENVIRONMENTAL PROTECTION AGENCY

[FRL-7888-6]

Science Advisory Board Staff Office; SAB Review of RadNet's Air Radiation Network, a Nationwide System to Track Environmental Radiation; Request for Nominations of Experts

AGENCY: Environmental Protection Agency (EPA).

ACTION: Notice.

SUMMARY: The EPA Science Advisory Board (SAB) Staff Office is requesting nominations to augment expertise to the SAB's Radiation Advisory Committee (RAC) to review EPA's implementation of RadNet, a nationwide system to track environmental radiation. RadNet incorporates an upgrade to the Environmental Radiation Ambient Monitoring System (ERAMS) air network, which was developed to provide for real-time monitoring of environmental levels of radiation in the United States (U.S.).

DATES: Nominations should be submitted by April 14, 2005 per the instructions below.

FOR FURTHER INFORMATION CONTACT: Any member of the public wishing further information regarding this Request for Nominations may contact Dr. K. Jack Kooyoomjian, Designated Federal Officer (DFO), via telephone/voice mail at (202) 343-9984; via e-mail at kooyoomjian.jack@epa.gov or at the U.S. EPA Science Advisory Board (1400F), 1200 Pennsylvania Ave., NW., Washington, DC 20460. General information about the SAB can be found in the SAB Web site at http://www.epa.gov/sab. The EPA technical contact for this review is Dr. Mary E. Clark, by telephone at (202) 343-9348 or by e-mail at clark.marye@epa.gov.

SUPPLEMENTARY INFORMATION: Background: The Environmental Radiation Ambient Monitoring System (ERAMS), was established in 1973 and constitutes the U.S.'s single major source of environmental radiation data. The ERAMS has continuously monitored radiation in air, precipitation, drinking water, and milk via a national network of fixed sampling stations. EPA's Office of Radiation and Indoor Air (ORIA) and it's National Air and Radiation Environmental Laboratory (NAREL) in Montgomery, AL maintains, receives, analyzes samples, and data from this system.

EPA's ORIA over the past decade, has requested that the SAB provide advice regarding ERAMS. The SAB was established by Congress in 1978 by the Environmental Research, Development, and Demonstration Authorization Act (ERDDAA, 42 U.S.C. 4365) to provide independent scientific, engineering and technical advice, consultation, and recommendations to the EPA Administrator on the technical basis for EPA positions, programs, systems and regulations. The SAB's Radiation Advisory Committee (RAC) had conducted reviews of the reconfigured ERAMS on two previous occasions. The first advisory by the SAB's RAC took place in 1995 and resulted in an advisory delivered to the EPA Administrator on April 5, 1996 (EPA-SAB-RAC-ADV-96-03). This activity provided advice on technical issues pertinent to developing a new vision and re-orienting the ERAMS at that time. The second advisory on ERAMS by the SAB's RAC took place in 1997 and 1998 and resulted in an advisory to the Administrator on August 28, 1998 (EPA-SAB-RAC-ADV-98-001) on the Agency's proposed reconfiguration to ERAMS. The previous SAB advisories on ERAMS can be obtained on the SAB's Web site (http://www.epa.gov/sab in the reports listings).

The U.S. EPA's ORIA is currently updating and expanding the air portion of its nationwide system to track environmental radiation, now known as RadNet. It is anticipated that when the new network is fully operational, data on ionizing radiation in air will be available in almost real-time from fixed monitors in 180 highly populated metropolitan areas, resulting in coverage of approximately 70 percent of the U.S. population. In addition to the fixed monitors, 40 deplorable monitors will be available to support the system during emergency conditions. The updated system will identify radioactive environmental contaminants and their concentrations so that early protective action decisions can be implemented to protect the public health. Data from all collection sites will be sent electronically to a central EPA database and made available to federal, state, and local decision makers and the public.

The upgraded system is designed to provide improved national coverage as well as additional air monitoring capabilities that are important during radiological emergencies. Routine operation of the air monitoring network will continue to generate valuable data for identifying long-term trends, and to define normal background levels for use in comparing with emergency data and scientific studies. Additionally, RadNet (the upgraded ERAMS air network) will have the capability of monitoring a radioactive plume from an accident or incident, transmitting data to NAREL for analysis and verification on a near real-time basis. In particular, the specific objectives for the upgraded air monitoring network are to: Provide data quickly in the event of a radiological incident for decision makers, for use in assessing potential protective actions for the public, as well as for dispersion modelers, for validating/refining source term and meteorological assumptions and estimates; provide data needed to determine large-scale national impacts of a radiological incident for follow-up monitoring and assessment and population dose reconstruction; and develop baseline data for trend analysis and abnormality identification during normal operations. Background information on RadNet, the upgrade to the ERAMS air network, can be found at http://www.epa.gov/radiation/news/nms.htm. EPA's ORIA is now seeking advice from the SAB about the RadNet and EPA's implementation strategy.

Tentative Charge to the SAB: The EPA is seeking comment on the proposed upgrades and expansion of the ERAMS air monitoring network into the RadNet, and the methodology for determining the locations for the monitoring stations, given the upgraded and expanded network's objectives. Specifically, EPA is requesting this review to obtain guidance regarding the concepts and implementation of the upgraded air monitoring system including overall plans for the air monitoring network. In particular, EPA is asking the SAB to address the following questions: (1) Are the proposed upgrades and expansion of the RadNet air monitoring network reasonable in meeting the air network's objectives?; and (2) Is the methodology for determining the locations for monitoring stations appropriate, given the upgraded and expanded network's objectives?

Request for Nominations: The SAB Staff Office is requesting nominations to augment expertise to the Radiation Advisory Committee (RAC) to form an SAB panel to review the RadNet air monitoring network. The augmented RAC will provide advice through the chartered SAB, and will comply with the provisions of the Federal Advisory Committee Act (FACA) and all appropriate SAB procedural policies, including the SAB process for panel formation described in the Overview of the Panel Formation Process at the Environmental Protection Agency Science Advisory Board, which can be found on the SAB's Web site at: http://www.epa.gov/sab/pdf/ec0210.pdf. To supplement expertise on the RAC, the SAB Staff Office is seeking individuals who have radiation expertise and knowledge of ERAMS in the following areas:

(1) Instrumentation (especially air monitors and detection equipment involving fixed and deplorable monitors, sodium iodide crystals, and gamma exposure instruments);

(2) Statistics (especially involving data interpretation, identification of abnormalities during normal operations, monitor siting plans, baseline data and data trends analysis, data coverage issues, and data interpretation);

(3) Modeling (especially involving validating and refining source terms, dispersion modeling, meteorological assumptions and estimates);

(4) Risk assessment (with particular experience and expertise in population dose reconstruction, health data interpretation, and health effects); and

(5) Risk communication.

Process and Deadline for Submitting Nominations: Any interested person or organization may nominate individuals qualified in the areas of expertise described above to serve on the Panel. Nominations should be submitted in electronic format through the Form for Nominating Individuals to Panels of the EPA Science Advisory Board provided on the SAB Web site, http://www.epa.gov/sab. The form can be accessed through a link on the blue navigational bar on the SAB Web site, http://www.epa.gov/sab. To be considered, all nominations must include the information required on that form.

Anyone who is unable to submit nominations using this form, or who has questions concerning any aspects of the nomination process may contact the DFO, as indicated above in this notice. Nominations should be submitted in time to arrive no later than April 14, 2005. Any questions concerning either this process or any other aspects of this notice should be directed to the DFO.

The SAB will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and biosketch. Public comments on the Short List will be accepted for 21 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, panel members will be asked to attend at least one public face-to-face meeting, as well as follow-up public conference calls over the anticipated course of the advisory activity.

Dated: March 17, 2005.
Vanessa T. Vu,
Director, EPA Science Advisory Board Staff Office.

[FR Doc. 05-5822 Filed 3-23-05; 8:45 am]

BILLING CODE 6560-50-P